DEPARTMENT OF THE INTERIOR

National Park Service

[NPS-WASO-NAGPRA-NPS0028300; PPWOCRADN0-PCU00RP14.R50000]

Notice of Inventory Completion: State University of New York at Oswego, Oswego, NY

AGENCY: National Park Service, Interior.

ACTION: Notice.

SUMMARY: The State University of New York at Oswego has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the State University of New York at Oswego. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State University of New York at Oswego at the address in this notice by August 19, 2019.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3003, of the completion of an inventory of human remains and associated funerary objects under the control of the State University of New York at Oswego, Oswego, NY. The human remains and associated funerary objects were removed from sites in Madison and Oneida Counties, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the SUNY Oswego professional staff in consultation with representatives of the Oneida Indian Nation (previously listed as the Oneida Nation of New York).

History and Description of the Remains

At an unknown date, human remains representing, at minimum, one individual were removed from the Diable site (Msv-2), in the town of Stockbridge, Madison County, NY, by Herbert Bigford, Sr. The human remains might have been acquired by a donation from William Ennis, who funded projects conducted by Peter Pratt. The human remains belong to one adult (40-50 years old) of indeterminate sex. No known individuals were identified. The 61 associated funerary objects are one beaver mandible, eight rim and body pottery sherds of Diable incised, three pottery body sherds including Richmond and Ithaca incised types, 10 pottery rim and body sherds of Fonda incised, two pottery rim and body sherds of Rice Diagonal, one pottery rim sherd of Syracuse incised, one pottery body sherd of Thurston horizontal, four unidentified incised pottery rim and body sherds, two pottery rim and body sherds of Cayadutta-Otstuago incised, 11 unidentified decorated incised pottery rim and body sherds, 11 unidentified incised pottery rim and body sherds, and seven pottery rim and body sherds of Wagoner incised.

The Diable site is a large village habitation site, dating to approximately A.D. 1525-1575 based on the artifacts recovered.

In 1976, human remains consisting, at minimum, of one individual was removed from the site of Nichols Pond in the town of Fenner, in Oneida County, NY. The human remains were acquired during a stage 1 and 2 survey by Peter and Marjorie Pratt for the Cultural Resources Survey of the Proposed Lateral Sewer Lines for the East Oneida Lake Water Pollution Abatement Project in Madison and Oneida Counties, NY, and were relocated to SUNY Oswego at an unknown date. The human remains belong to one adult of indeterminate sex. No known individuals were identified. The 47 associated funerary objects are 38 decorated, plain, and incised pottery rim and body sherds; one chert flake; one snail shell; one charcoal sample; one chert lithic shatter; and five unidentified faunal bones.

The site of Nichols Pond consists of a village occupation, including earthworks and burials, dating to the mid-fifteenth century, (approximately A.D. 1480). The site might also have an early 17th century component.

At an unknown date, human remains consisting, at minimum, of two individuals, were removed from the Olcott site, located in the town of Smithfield, in Madison County, NY. These human remains were transferred to SUNY Oswego at an unknown time. The human remains belong to a one juvenile (1-5 years) of indeterminate sex, and an adult of indeterminate sex. No known individuals were identified. The 1,090 associated funerary objects are 45 unidentified faunal bones, 10 plain and decorated incised pottery body sherds, 850 unidentified faunal bones, 15 decorated incised pottery body sherds, two lithic flakes of indeterminate material, 100 unidentified faunal bones, two carbon samples, 22 plain and decorated incised pottery body sherds, one soil sample, 38 plain and decorated incised pottery body sherds, one black seed bead, three seed beads (two white and one black), and one unidentified wooden artifact.

The Olcott site is one of latest of the prehistoric Oneida village sites, with an occupation dating to approximately A.D. 1475-1525. A cemetery was found on a slight rise just west of the site.

At an unknown date, human remains consisting, at minimum, of six individuals were recovered from the Sullivan site, located near the town of Stockbridge, in Madison County, NY. These human remains were transferred to SUNY Oswego at an unknown time. The human remains belong to one adult of indeterminate sex (Burial 2); one adult of indeterminate sex (Burial 3); one juvenile (3-6 years) of indeterminate sex (Burial 3); one adult (>40) possibly male (Burial 4); one adult of indeterminate sex (Burial 4); and one adult of indeterminate sex (Burial 5E). No known individuals were identified. The 1,480 associated funerary objects are 80 unidentified shell, 33 unidentified faunal bones, two unworked chert pieces, five unidentified faunal bones, 42 unidentified shells, three plain pottery body sherds, 250 unidentified faunal bones, one soil sample, six metal nails, 500 unidentified faunal bones, 450 unidentified faunal bones, 18 unidentified faunal bones, 56 unidentified faunal bones, one unidentified faunal bone, one metal nail, one unidentified metal artifact, one resin button, one decorated pottery bowl rim sherd, one ground stone, one unidentified lithic artifact, six chert flakes, 20 charcoal samples, and one unidentified faunal bone.

The Sullivan site is a habitation site that included burial grounds and middens. Its occupation dates to approximately A.D. 1665-1680, based on the materials recovered at the site.

At an unknown date, human remains consisting, at minimum, of eight individuals, were recovered from the site of Thurston, located near the town of Stockbridge, in Madison County, NY. The human remains were gifted to SUNY Oswego by William Ennis at an unknown time. The human remains belong to one adult of indeterminate sex; one juvenile (3-5 years) of indeterminate sex; one adult of indeterminate sex (Burial 5); one juvenile (5-10 years) of indeterminate sex (Burial 5); one juvenile (1-3 years) of indeterminate sex (Burial 5); one adult of indeterminate sex (Burial 12); one adult (>40) of indeterminate sex (Burial 15); and one adult of indeterminate sex (Burial 15). No known individuals were identified. The 34 associated funerary objects are two chert flakes, one unworked antler horn, one unidentified shell, one soil sample, five unworked rocks, 12 unidentified metal objects, two unidentified faunal bones, and 10 unidentified faunal bones.

The site of Thurston includes a village occupation dating approximately A.D. 1625-1637.

Determinations Made by the State University of New York at Oswego

Officials of the State University of New York at Oswego have determined that:

• Pursuant to 25 U.S.C. 3001(9), the human remains described in this notice represent the physical remains of 18 individuals of Native American ancestry.

• Pursuant to 25 U.S.C. 3001(3)(A), the 2,712 objects described in this notice are reasonably believed to have been placed with or near individual human remains at the time of death or later as part of the death rite or ceremony.

• Pursuant to 25 U.S.C. 3001(2), there is a relationship of shared group identity that can be reasonably traced between the Native American human remains and associated funerary objects and the Oneida Indian Nation (previously listed as the Oneida Nation of New York).

Additional Requestors and Disposition

Lineal descendants or representatives of any Indian Tribe or Native Hawaiian organization not identified in this notice that wish to request transfer of control of these human remains and associated funerary objects should submit a written request with information in support of the request to Alanna Ossa, NAGPRA Coordinator, State University of New York at Oswego, 313 Mahar Hall, Department of Anthropology, Oswego, NY 13126, telephone (315) 312-4172, email alanna.ossa@oswego.edu, by August 19, 2019. After that date, if no additional requestors have come forward, transfer of control of the human remains and associated funerary objects to the Oneida Indian Nation (previously listed as the Oneida Nation of New York) may proceed.

The State University of New York at Oswego is responsible for notifying the Oneida Indian Nation (previously listed as the Oneida Nation of New York) that this notice has been published.

Dated: June 25, 2019.
Melanie O'Brien,
Manager, National NAGPRA Program.

[FR Doc. 2019-15440 Filed 7-18-19; 8:45 am]

BILLING CODE 4312-52-P